DEPARTMENT OF ENERGY

[OE Docket No. EA-324-B]

Application to Export Electric Energy; Emera Energy Services Subsidiary No. 4 LLC

AGENCY: Office of Electricity, Department of Energy.

ACTION: Notice of Application.

SUMMARY: Emera Energy Services Subsidiary No. 4 LLC (Applicant or EESS-4) has applied to renew its authority to transmit electric energy from the United States to Canada pursuant to the Federal Power Act.

DATES: Comments, protests, or motions to intervene must be submitted on or before July 20, 2018.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to 202-586-8008.

SUPPLEMENTARY INFORMATION: The Department of Energy (DOE) regulates exports of electricity from the United States to a foreign country, pursuant to sections 301(b) and 402(f) of the Department of Energy Organization Act (42 U.S.C. 7151(b), 7172(f)). Such exports require authorization under section 202(e) of the Federal Power Act (16 U.S.C. 824a(e)).

On October 2, 2013, DOE issued Order No. EA-324-A to EESS-4, which authorized the Applicant to transmit electric energy from the United States to Canada, effective October 1, 2013, as a power marketer for a five-year term using existing international transmission facilities. That authority expires on October 1, 2018. On February 22, 2018, EESS-4 filed an application with DOE for renewal of the export authority contained in Order No. EA-324 for an additional five-year term.

In its application, EESS-4 states that it neither owns nor controls any electric generation or transmission facilities, and that it has no franchised electric power service area. The electric energy that EESS-4 proposes to export to Canada would be surplus energy purchased from third parties such as electric utilities and Federal power marketing agencies pursuant to voluntary agreements. The existing international transmission facilities to be utilized by EESS-4 have previously been authorized by Presidential permits issued pursuant to Executive Order 10485, as amended, and are appropriate for open access transmission by third parties.

Procedural matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five (5) copies of such comments, protests, or motions to intervene should be sent to the address provided above on or before the date listed above.

Comments and other filings concerning EESS-4's application to export electric energy to Canada should be clearly marked with OE Docket No. EA-324-B. An additional copy is to be provided directly to both Bonnie A. Suchman, Suchman Law LLC, 8104 Paisley Place, Potomac, MD 20854 and Michael G. Henry, Emera Energy Services, Inc., 101 Federal St., Suite 1101, Boston, MA 02110.

A final decision will be made on this application after the environmental impacts have been evaluated pursuant to DOE's National Environmental Policy Act Implementing Procedures (10 CFR part 1021) and after DOE determines that the proposed action will not have an adverse impact on the sufficiency of supply or reliability of the U.S. electric power supply system.

Copies of this application will be made available, upon request, for public inspection and copying at the address provided above, by accessing the program website at http://energy.gov/node/11845, or by emailing Angela Troy at Angela.Troy@hq.doe.gov.

Issued in Washington, DC, on June 12, 2018.
Christopher Lawrence,
Electricity Policy Analyst, Office of Electricity.

[FR Doc. 2018-13229 Filed 6-19-18; 8:45 am]

BILLING CODE 6450-01-P